DEPARTMENT OF THE INTERIOR

Bureau of Land Management

[L61400000.ER0000/LLOR936000]

Renewal of Approved Information Collection, OMB Control Number 1004-0168

AGENCY: Bureau of Land Management, Interior.

ACTION: 60-day notice and request for comments.

SUMMARY: In compliance with the Paperwork Reduction Act of 1995, the Bureau of Land Management (BLM) announces its intention to request that the Office of Management and Budget (OMB) renew its approval to collect information from private landowners in western Oregon who are authorized to transport timber over BLM-controlled roads. This information collection activity was previously approved by the Office of Management and Budget (OMB), and assigned control number 1004-0168.

DATES: Please submit your comments to the BLM at the address below on or before August 16, 2010.

ADDRESSES: You may mail comments to: U.S. Department of the Interior, Bureau of Land Management, Mail Stop 401-LS, 1849 C St., NW., Washington, DC 20240, Attention: 1004-0168. You may also send comments to Jean Sonneman by fax at 202-912-7102, or by e-mail at: Jean_Sonneman@blm.gov, Attention: 1004-0168.

FOR FURTHER INFORMATION CONTACT: You may contact Sarah Bickford, O&C Road Rights-of-Way Realty Specialist, at 541-471-6694. Persons who use a telecommunication device for the deaf (TDD) may call the Federal Information Relay Service (FIRS) at 1-800-877-8339, to contact Ms. Bickford. You may also contact Ms. Bickford to obtain a copy, at no cost, of the regulations and the form pertaining to this collection of information.

SUPPLEMENTARY INFORMATION: OMB regulations at 5 CFR 1320, which implement provisions of the Paperwork Reduction Act (44 U.S.C. 3501-3521), require that interested members of the public and affected agencies be provided an opportunity to comment on information collection and recordkeeping activities (see 5 CFR 1320.8(d) and 1320.12(a)). This notice identifies information collections that are contained in 43 CFR subpart 2812. The BLM will request that the OMB approve this information collection activity for a 3-year term.

Comments are invited on: (1) The need for the collection of information for the performance of the functions of the agency; (2) the accuracy of the agency's burden estimates; (3) ways to enhance the quality, utility, and clarity of the information collection; and (4) ways to minimize the information collection burden on respondents, such as use of automated means of collection of the information. A summary of the public comments will accompany the BLM's submission of the information collection requests to OMB.

The following information is provided for the information collection:

Title: Tramroads and Logging Roads (43 CFR part 2810).

Form: Form OR 2812-6, Report of Road Use.

OMB Control Number: 1004-0168.

Summary: This collection of information pertains to rights-of-way on public lands that were returned to the United States after being conveyed for construction of the Oregon & California Railroad. On these lands in western Oregon, the BLM Oregon State Office has authority under the Act of August 28, 1937 (43 U.S.C. 1181a and 1181b) and Subchapter V of the Federal Land Policy and Management Act (43 U.S.C. 1761-1771) to grant rights-of-way to private landowners to transport their timber over BLM-controlled roads. Each right-of-way permit issued under these two authorities requires the permittee to provide the BLM with a certified statement disclosing the amount of timber removed, the lands from which the timber was removed, and the BLM roads used to transport the timber. Permittees must submit this information on a quarterly basis using Form OR 2812-6, Report of Road Use.

The BLM uses this information to calculate road use fees, as authorized at Section 502 the Federal Land Policy and Management Act (43 U.S.C. 1762). If we did not require the collection of information, it would not be possible to monitor compliance with the terms and conditions of the permits described above, and road costs would not be collected in a timely manner.

Frequency of Collection: Quarterly.

Estimated Number and Description of Respondents: Approximately 68 holders of rights-of-way for use of BLM-controlled roads in western Oregon.

Currently Approved Reporting and Recordkeeping “Hour” Burden: The currently approved annual reporting burden is 272 responses and 2,176 hours.

Currently Approved Reporting and Recordkeeping “Non-Hour Cost” Burden: $0.

The Paperwork Reduction Act (44 U.S.C. 3501, et seq.) provides that an agency may not conduct or sponsor a collection of information unless it displays a currently valid OMB control number. Until OMB approves a collection of information, you are not obligated to respond.

The BLM will summarize all responses to this notice and include them in the request for OMB approval. All comments will become a matter of public record. Before including your address, phone number, e-mail address, or other personal identifying information in your comment, you should be aware that your entire comment—including your personal identifying information—may be made publicly available at any time. While you can ask us in your comment to withhold your personal identifying information from public review, we cannot guarantee that we will be able to do so.

Jean Sonneman,
Acting Information Collection Clearance Officer.

[FR Doc. 2010-14507 Filed 6-15-10; 8:45 am]

BILLING CODE 4310-84-P